DEPARTMENT OF THE INTERIOR

Bureau of Land Management

[ES-030-01-1610-DO]

Extension of Scoping Period for the Lower Potomac River Coordinated Management Plan/Environmental Assessment

AGENCY: Bureau of Land Management, Milwaukee Field Office, Interior.

ACTION: Extension of scoping period.

SUMMARY: On April 30, 2001, the Bureau of Land Management (BLM), Milwaukee Field Office, filed a Notice of Intent to prepare a coordinated management plan (CMP) in the Federal Register (66 FR 21412-3) for the Lower Potomac River project area located in Charles County, Maryland. The CMP will be prepared to determine whether and where to acquire land within the project area.

In order to provide the public with a better opportunity to identify issues and concerns, the scoping period will be extended to June 29, 2001. See the April 30, 2001, notice for more information about the project.

DATES: Comments should be postmarked no later than June 29, 2001 to ensure the issues they raise are considered in the plan.

ADDRESSES: Comments may be mailed to the following addresses: James W. Dryden, Field Office Manager, Milwaukee Field Office, P.O. Box 631, Milwaukee, Wisconsin 53201-0631 or Ed Ruda, Project Leader Manager, Eastern States Office, 7450 Boston Boulevard, Springfield, Virginia 22153.

FOR FURTHER INFORMATION CONTACT: Ed Ruda, Project Leader at (703) 440-1663, or by electronic mail at ed—ruda@es.blm.gov, or Howard Levine, Planning and Environmental Coordinator at (414) 297-4463, or by electronic mail at howard_levine@es.blm.gov.

Dated: May 11, 2001.
James W. Dryden,
Milwaukee Field Manager.

[FR Doc. 01-12962 Filed 5-22-01; 8:45 am]

BILLING CODE 4310-PN-P